DEPARTMENT OF JUSTICE

Notice of Lodging of Consent Decree Under the Comprehensive Environmental Response, Compensation and Liability Act

Under 28 CFR 50.7 and 42 U.S.C. 9622(d), notice is hereby given that on December 19, 2002, a proposed Consent Decree (“Consent Decree”) in United States v. NL Industries, Inc. et al., Civil Action No. 91-CV-578-JLF, was lodged with the United States District Court for the Southern District of Illinois.

The United States filed the above-referenced civil action under sections 106 and 107 of the Comprehensive Environmental Response, Compensation and Liability Act, as amended (“CERCLA”), against NL Industries, Inc. (“NL”) and others in 1991. The complaint seeks injunctive relief to compel defendants to perform remedial actions at the NL Industries/Taracorp Superfund Site, as well as civil penalties and punitive damages for failure to comply with a 1990 administrative order issued pursuant to section 106 of CERCLA. In addition, the complaint seeks to recover response costs incurred by the United States in connection with the Site.

Under the proposed consent decree. In additon, NL will pay $29.78 million to the Superfund within 30 days of entry of the consent decree. In addition, NL will pay up to an additional $710,000 to the Superfund, depending on the outcome of an audit of certain response costs relating to the Site. Finally, the proposed consent decree requires NL to pay a penalty of $1 million for failure to comply with the 1990 administrative order. Because another group of potentially responsible parties committed to complete the implementation of remedial action at the Site, the proposed consent decree does not include any requirements for NL to perform remedial action.

The Department of Justice will receive comments relating to the proposed consent decree for a period of thirty (30) days from the date of this publication. Comments should be addressed to the Assistant Attorney General of the Environment and Natural Resources Division, PO Box 7611, U.S. Department of Justice, Washington, DC 20044-7611, and should refer to United States v. NL Industries, Inc., et al., D.J. Ref. 90-11-3-608A.

The Consent Decree may be examined at the Office of the United States Attorney, Nine Executive Drive, Fairview Heights, Illinois 62208-1344, and at U.S. EPA Region 5, 77 West Jackson Boulevard, Chicago, IL 60604. A copy of the Consent Decree may also be obtained by mail from the Consent Decree Library, PO Box 7611, U.S. Department of Justice, Washington, DC 20044-7611 or by faxing a request to Tonia Fleetwood, fax no. (202) 514-0097, phone confirmation number (202) 514-1547. In requesting a copy, please enclose a check in the amount of $8.00 (25 cents per page reproduction cost) payable to the U.S. Treasury.

William D. Brighton,
Assistant Chief, Environmental Enforcement Section, Environment and Natural Resources Division.

[FR Doc. 02-33084 Filed 12-31-02; 8:45 am]

BILLING CODE 4410-15-M